FEDERAL COMMUNICATIONS COMMISSION

47 CFR Part 69

[WC Docket No. 05-25; RM-10593; FCC 12-153]

Special Access Proceeding; Effective Date for Data Collection

AGENCY: Federal Communications Commission.

ACTION: Final rule; announcement of effective date.

SUMMARY: The Federal Communications Commission (Commission) has received approval for the information collection requirement contained in the Special Access Proceeding from the Office of Management and Budget (OMB) pursuant to the Paperwork Reduction Act of 1995 (PRA) (44 U.S.C. 3501-3520).

DATES: On December 11, 2012, the Commission adopted a Report and Order and Further Notice of Proposed Rulemaking (Report and Order) regarding the special access data collection and stated that the information collection would not go into effect until OMB approved the collection and the Commission published a notice in the Federal Register announcing the effective date of the collection. FCC 12-153, 78 FR 2572 (Jan. 11, 2013). On August 15, 2014, OMB approved the data collection requirement and assigned this new information collection OMB Control Number 3060-1197, as required by PRA. Accordingly, the information collection requirement contained in the Report and Order is effective September 26, 2014. The Commission's Wireline Competition Bureau (Bureau) will separately announce a deadline for responding to the collection.

FOR FURTHER INFORMATION CONTACT: Christopher Koves, Wireline Competition Bureau, Pricing Policy Division (202) 418-8209 or at Christopher.koves@fcc.gov.

SUPPLEMENTARY INFORMATION: In the Report and Order, the Commission required providers and purchasers of special access and certain entities providing “best efforts” service to submit data and information for a comprehensive evaluation of the special access market. The Commission delegated authority to the Bureau to implement the data collection. On September 18, 2013, the Bureau released an order implementing the data collection, including clarifying the scope of the collection, providing instructions on how to respond to the data collection questions, and providing a list of all modifications and amendments to the data collection questions and definitions. DA-13-1909, 78 FR 67053 (Nov. 8, 2013). The Commission subsequently submitted the new information collection to OMB for review as required by PRA. 78 FR 73861 (Dec. 9, 2013). OMB approved the collection on August 15, 2014 subject to changes. The Bureau released an Order on Reconsideration on September 15, 2014, amending the collection to reflect the approval received from OMB. DA 14-1327 (Sept. 15, 2014).

Pursuant to the PRA, an agency may not conduct or sponsor a collection of information unless it displays a currently valid control number. Notwithstanding any other provisions of law, no person shall be subject to any penalty for failing to comply with the collection of information subject to the PRA that does not display a valid control number. Questions concerning this information collection, 3060-1197, should be directed to Leslie F. Smith, Federal Communications Commission at (202) 418-2991 or at leslie.smith@fcc.gov.

The total annual reporting burdens and costs for the respondents are as follows:

OMB Control Number: 3060-1197.

OMB Approval Date: August 15, 2014.

OMB Expiration Date: August 31, 2017.

Title: Comprehensive Market Data Collection for Interstate Special Access Services, FCC 12-153.

Form Number: N/A.

Type of Review: New collection.

Respondents: Business or other for-profit entities; not-for-profit institutions; and state, local or tribal governments.

Number of Respondents and Responses: 4,000 respondents; 4,000 responses.

Estimated Time per Response: 134 hours.

Frequency of Response: One-time reporting requirement; recordkeeping.

Obligation to Respond: Mandatory. Statutory authority for this information collection is contained in 47 U.S.C. 151, 154(i), 154(j), 155, 201, 202, 203, 204, 205, 211, 215, 218, 219, 303(r), 332, 403, 503, and section 706 of the Communications Act of 1934, as amended.

Total Annual Burden: 536,000 hours.

Total Annual Cost: $10,000,000.

Privacy Act Impact Assessment: No impact(s).

Nature and Extent of Confidentiality: This collection calls for the submission of data and information that is commercially and competitively sensitive. The Commission plans to issue a Protective Order specifically for this data collection outlining the procedures for handling and treating the information. The Protective Order will provide limited access to the competitively sensitive information for certain representatives of persons participating in the proceeding, while protecting that competitively sensitive information from improper disclosure, and thereby will serve the public interest.

Needs and Uses: In the Report and Order, the Commission initiated a comprehensive special access data collection and specified the nature of the data to be collected and the scope of respondents. In conjunction with the market analysis proposed by the Commission in the accompanying Further Notice of Proposed Rulemaking, 78 FR 2600 (Jan. 11, 2013), the data, information, and documents acquired through this new collection will aid the Commission in conducting a comprehensive evaluation of special access competition and updating its rules for pricing flexibility for special access services.

Federal Communications Commission.
Marlene H. Dortch,
Secretary.

[FR Doc. 2014-22864 Filed 9-25-14; 8:45 am]

BILLING CODE 6712-01-P